DEPARTMENT OF HEALTH AND HUMAN SERVICES

Centers for Medicare & Medicaid Services

[Document Identifier: CMS-10053, CMS-906 and CMS-10294]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Paid Feeding Assistants in Long Term Care Facilities and Supporting Regulations at 42 CFR 483.160; Use: Section 42 CFR 483 permits long-term care facilities to use paid feeding assistants to supplement the services of certified nurse aides. If facilities choose this option, feeding assistance must complete a specified training program. In addition, a facility must maintain a record of all individuals, used by the facility as feeding assistants, who have successfully completed the training course for paid feeding assistants. This information is used as part of the process to determine facility compliance with this requirement. Form Number: CMS-10053 (OMB#: 0938-0916); Frequency: Reporting—Yearly; Affected Public: Private Sector: Business or other for-profits and Not-for-profit institutions; Number of Respondents: 13,280; Total Annual Responses: 4,250; Total Annual Hours: 25,500. (For policy questions regarding this collection contact Susan Joslin at 410-786-3516. For all other issues call 410-786-1326.)

2. Type of Information Collection Request: Revision of a currently approved collection; Title of Information Collection: The Fiscal Soundness Reporting Requirements; Use: CMS is assigned responsibility for overseeing all Medicare Advantage Organizations (MAO), Prescription Drug Plan (PDP) sponsors, 1876 Cost Plans, Demonstration Plans and PACE organizations on-going financial performance. Specifically, CMS needs the requested collection of information to establish that contracting entities within those programs maintain fiscally sound organizations. Refer to the supporting documents for a list of changes to this collection. Form Number: CMS-906 (OMB#: 0938-0469); Frequency: Reporting—Yearly and Quarterly; Affected Public: Private Sector: Business or other for-profits and Not-for-profit institutions; Number of Respondents: 514; Total Annual Responses: 1,039; Total Annual Hours: 346. (For policy questions regarding this collection contact Robert Ahern at 410-786-0073. For all other issues call 410-786-1326.)

3. Type of Information Collection Request: New collection; Title of Information Collection: Program Evaluation of the Eighth and Ninth Scope of Work Quality Improvement Organization Program; Use: The statutory authority for the Quality Improvement Organization (QIO) Program is found in Part B of Title XI of the Social Security Act, as amended by the Peer Review Improvement Act of 1982. The Social Security Act established the Utilization and Quality Control Peer Review Organization Program, now known as the QIO Program. The statutory mission of the QIO Program, as set forth in Title XVIII—Health Insurance for the Aged and Disabled, Section 1862(g) of the Social Security Act—is to improve the effectiveness, efficiency, economy, and quality of services delivered to Medicare beneficiaries. The quality strategies of the Medicare QIO Program are carried out by specific QIO contractors working with health care providers in their state, territory, or the District of Columbia. The QIO contract contains a number of quality improvement initiatives that are authorized by various provisions in the Act. As a general matter, Section 1862(g) of the Act mandates that the secretary enter into contracts with QIOs for the purpose of determining that Medicare services are reasonable and medically necessary and for the purposes of promoting the effective, efficient, and economical delivery of health care services and of promoting the quality of the type of services for which payment may be made under Medicare. CMS interprets the term “promoting the quality of services” to involve more than QIOs reviewing care on a case-by-case basis, but to include a broad range of proactive initiatives that will promote higher quality. CMS has, for example, included in the SOW tasks in which the QIO will provide technical assistance to Medicare-participating providers and practitioners in order to help them improve the quality of the care they furnish to Medicare beneficiaries.

Additional authority for these activities appears in Section 1154(a)(8) of the Act, which requires that QIOs perform such duties and functions, assume such responsibilities, and comply with such other requirements as may be required by the Medicare statute. CMS regards survey activities as appropriate if they will directly benefit Medicare beneficiaries. In addition, Section 1154(a)(10) of the Act specifically requires that the QIOs “coordinate activities, including information exchanges, which are consistent with economical and efficient operation of programs among appropriate public and private agencies or organizations, including other public or private review organizations as may be appropriate.” CMS regards this as specific authority for QIOs to coordinate and operate a broad range of collaborative and community activities among private and public entities, as long as the predicted outcome will directly benefit the Medicare program.

The purpose of the study is to design and conduct an analysis evaluating the impact on national and regional health care processes and outcomes of the Ninth Scope of Work QIO Program. The QIO Program is national in scope and scale and affects the quality of healthcare of 43 million elderly and disabled Americans. CMS will conduct an impact and process analysis using data from multiple sources: (1) Primary data collected via in-depth interviews, focus groups, and surveys of QIOs, health care providers, and other stakeholders; (2) secondary data reported by QIOs through CMS systems; and (3) CMS administrative data. The findings will be presented in a final report as well as in other documents and reports suitable for publication in peer-review journals. This request relates to the following data collections: (1) Survey of QIO directors and theme leaders; (2) Survey of hospital QI directors and nursing home administrators; (3) focus groups with Medicare beneficiaries; and (4) in-person and telephone discussions with QIO staff, partner organizations, health care providers, and community health leaders. Form Number: CMS-10294 (OMB# 0938-New); Frequency: Occasionally; Affected Public: Business or other for-profits, and Medicare beneficiaries; Number of Respondents: 3,343; Total Annual Responses: 3,343; Total Annual Hours: 1,707. (For policy questions regarding this collection contact Robert Kambic at 410-786-1515. For all other issues call 410-786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on April 21, 2010.

OMB, Office of Information and Regulatory Affairs, Attention: CMS Desk Officer, Fax Number: (202) 395-6974, E-mail: OIRA_submission@omb.eop.gov.

Dated: March 15, 2010.
Michelle Shortt,
Director, Regulations Development Group, Office of Strategic Operations and Regulatory Affairs.

[FR Doc. 2010-6237 Filed 3-19-10; 8:45 am]

BILLING CODE 4120-01-P